DEPARTMENT OF ENERGY

Federal Energy Regulatory Commission

Combined Notice of Filings

Take notice that the Commission has received the following Natural Gas Pipeline Rate and Refund Report filings:

Filings Instituting Proceedings

Docket Numbers: RP15-990-002.

Applicants: Tennessee Gas Pipeline Company, L.L.C.

Description: Compliance filing Settlement—2018—Compliance Filing to be effective 11/1/2018.

Filed Date: 9/27/18.

Accession Number: 20180927-5073.

Comments Due: 5 p.m. ET 10/9/18.

Docket Numbers: RP18-1226-000.

Applicants: Natural Gas Pipeline Company of America.

Description: Penalty Revenue Crediting Report of Natural Gas Pipeline Company of America LLC.

Filed Date: 9/27/18.

Accession Number: 20180927-5050.

Comments Due: 5 p.m. ET 10/9/18.

Docket Numbers: RP18-1227-000.

Applicants: El Paso Natural Gas Company, L.L.C.

Description: § 4(d) Rate Filing: Negotiated Rate Agreement Update (Pioneer Oct-Dec 2018) to be effective 10/1/2018.

Filed Date: 9/27/18.

Accession Number: 20180927-5053.

Comments Due: 5 p.m. ET 10/9/18.

Docket Numbers: RP18-1228-000.

Applicants: El Paso Natural Gas Company, L.L.C.

Description: § 4(d) Rate Filing: Negotiated Rate Agreement Update (APS Oct 2018) to be effective 10/1/2018.

Filed Date: 9/27/18.

Accession Number: 20180927-5054.

Comments Due: 5 p.m. ET 10/9/18.

Docket Numbers: RP18-1229-000.

Applicants: Tennessee Gas Pipeline Company, L.L.C.

Description: § 4(d) Rate Filing: Volume No. 2—Neg Rate Agmt—BKV Operating, LLC SP338105 to be effective 11/1/2018.

Filed Date: 9/27/18.

Accession Number: 20180927-5059.

Comments Due: 5 p.m. ET 10/9/18.

Docket Numbers: RP18-1230-000.

Applicants: Algonquin Gas Transmission, LLC.

Description: § 4(d) Rate Filing: Negotiated Rate—Keyspan release to Emera 797565 to be effective 10/1/2018.

Filed Date: 9/27/18.

Accession Number: 20180927-5084.

Comments Due: 5 p.m. ET 10/9/18.

Docket Numbers: RP18-1231-000.

Applicants: Algonquin Gas Transmission, LLC.

Description: § 4(d) Rate Filing: Negotiated Rates—Energy Plus 797550, 797551, 797574 to be effective 10/1/2018.

Filed Date: 9/27/18.

Accession Number: 20180927-5085.

Comments Due: 5 p.m. ET 10/9/18.

Docket Numbers: RP18-1232-000.

Applicants: Maritimes & Northeast Pipeline, L.L.C.

Description: § 4(d) Rate Filing: MNUS FRQ 2018 Filing to be effective 11/1/2018.

Filed Date: 9/27/18.

Accession Number: 20180927-5094.

Comments Due: 5 p.m. ET 10/9/18.

Docket Numbers: RP18-1233-000.

Applicants: Equitrans, L.P.

Description: § 4(d) Rate Filing: 10-1-2018 Formula-Based Negotiated Rates to be effective 10/1/2018.

Filed Date: 9/28/18.

Accession Number: 20180928-5003.

Comments Due: 5 p.m. ET 10/10/18.

Docket Numbers: RP18-1234-000.

Applicants: Young Gas Storage Company, Ltd.

Description: Annual Operational Purchases and Sales Report of Young Gas Storage Company, Ltd.

Filed Date: 9/27/18.

Accession Number: 20180927-5145.

Comments Due: 5 p.m. ET 10/9/18.

Docket Numbers: RP18-1235-000.

Applicants: Wyoming Interstate Company, L.L.C.

Description: Annual Operational Purchases and Sales Report of Wyoming Interstate Company, L.L.C.

Filed Date: 9/27/18.

Accession Number: 20180927-5146.

Comments Due: 5 p.m. ET 10/9/18.

Docket Numbers: RP18-1236-000.

Applicants: Panhandle Eastern Pipe Line Company, LP.

Description: § 4(d) Rate Filing: Fuel Filing on 9-28-18 to be effective 11/1/2018.

Filed Date: 9/28/18.

Accession Number: 20180928-5005.

Comments Due: 5 p.m. ET 10/10/18.

Docket Numbers: RP18-1237-000.

Applicants: Trunkline Gas Company, LLC.

Description: § 4(d) Rate Filing: Fuel Filing on 9-28-18 to be effective 11/1/2018.

Filed Date: 9/28/18.

Accession Number: 20180928-5006.

Comments Due: 5 p.m. ET 10/10/18.

Docket Numbers: RP18-1238-000.

Applicants: Southwest Gas Storage Company.

Description: § 4(d) Rate Filing: Fuel Filing on 9-28-18 to be effective 11/1/2018.

Filed Date: 9/28/18.

Accession Number: 20180928-5007.

Comments Due: 5 p.m. ET 10/10/18.

Docket Numbers: RP18-1239-000.

Applicants: Rover Pipeline LLC.

Description: § 4(d) Rate Filing: Fuel Filing on 9-28-18 to be effective 11/1/2018.

Filed Date: 9/28/18.

Accession Number: 20180928-5008.

Comments Due: 5 p.m. ET 10/10/18.

Docket Numbers: RP18-1240-000.

Applicants: Transcontinental Gas Pipe Line Company, LLC.

Description: § 4(d) Rate Filing: Negotiated Rates—Cherokee AGL—Replacement Shippers—Oct 2018 to be effective 10/1/2018.

Filed Date: 9/28/18.

Accession Number: 20180928-5036.

Comments Due: 5 p.m. ET 10/10/18.

Docket Numbers: RP18-1241-000.

Applicants: EdgeMarc Energy Holdings, LLC,EM Energy Ohio, LLC,EM Energy Pennsylvania, LLC.

Description: Joint Petition for Limited Waiver, et al. of EdgeMarc Energy Holdings, LLC, et al.

Filed Date: 9/27/18.

Accession Number: 20180927-5176.

Comments Due: 5 p.m. ET 10/4/18.

Docket Numbers: RP18-1242-000.

Applicants: Kern River Gas Transmission Company.

Description: § 4(d) Rate Filing: 2018 October Negotiated Rate Amendments to be effective 10/1/2018.

Filed Date: 9/28/18.

Accession Number: 20180928-5048.

Comments Due: 5 p.m. ET 10/10/18.

Docket Numbers: RP18-1243-000.

Applicants: Destin Pipeline Company, L.L.C.

Description: § 4(d) Rate Filing: Negotiated Rate Agreements to be effective 11/1/2018.

Filed Date: 9/28/18.

Accession Number: 20180928-5050.

Comments Due: 5 p.m. ET 10/10/18.

Docket Numbers: RP18-1244-000.

Applicants: Destin Pipeline Company, L.L.C.

Description: § 4(d) Rate Filing: Final Accounting of Auxiliary Installation to be effective 10/1/2018.

Filed Date: 9/28/18.

Accession Number: 20180928-5051.

Comments Due: 5 p.m. ET 10/10/18.

Docket Numbers: RP18-1245-000.

Applicants: ANR Pipeline Company.

Description: § 4(d) Rate Filing: ANR George Franklin Neg Rate Agmt to be effective 10/1/2018.

Filed Date: 9/28/18.

Accession Number: 20180928-5057.

Comments Due: 5 p.m. ET 10/10/18.

Docket Numbers: RP18-1246-000.

Applicants: Dominion Energy Transmission, Inc.

Description: § 4(d) Rate Filing: DETI—2018 Annual EPCA to be effective 11/1/2018.

Filed Date: 9/28/18.

Accession Number: 20180928-5058.

Comments Due: 5 p.m. ET 10/10/18.

Docket Numbers: RP18-1247-000.

Applicants: ANR Pipeline Company.

Description: § 4(d) Rate Filing: WISE Neg Rate/NC Agmts 1 of 3 to be effective 11/1/2018.

Filed Date: 9/28/18.

Accession Number: 20180928-5061.

Comments Due: 5 p.m. ET 10/10/18.

Docket Numbers: RP18-1248-000.

Applicants: Dominion Energy Transmission, Inc.

Description: § 4(d) Rate Filing: DETI—2018 Annual TCRA to be effective 11/1/2018.

Filed Date: 9/28/18.

Accession Number: 20180928-5075.

Comments Due: 5 p.m. ET 10/10/18.

Docket Numbers: RP18-1249-000.

Applicants: Viking Gas Transmission Company.

Description: § 4(d) Rate Filing: Semi-Annual Fuel and Losses Retention Adjustment—Winter 2018 Rate to be effective 11/1/2018.

Filed Date: 9/28/18.

Accession Number: 20180928-5089.

Comments Due: 5 p.m. ET 10/10/18.

Docket Numbers: RP18-1250-000.

Applicants: Gulf South Pipeline Company, LP.

Description: § 4(d) Rate Filing: Cap Rel Neg Rate Agmts (Atlanta Gas 8438 to various shippers eff 10-1-18) to be effective 10/1/2018.

Filed Date: 9/28/18.

Accession Number: 20180928-5111.

Comments Due: 5 p.m. ET 10/10/18.

Docket Numbers: RP18-1251-000.

Applicants: Texas Gas Transmission, LLC.

Description: § 4(d) Rate Filing: Cap Rel Neg Rate Agmt (EM Energy OH 35451 to BP 37473) to be effective 10/1/2018.

Filed Date: 9/28/18.

Accession Number: 20180928-5112.

Comments Due: 5 p.m. ET 10/10/18.

Docket Numbers: RP18-1252-000.

Applicants: Texas Gas Transmission, LLC.

Description: § 4(d) Rate Filing: Cap Rel Neg Rate Agmt (RE Gas 34955 to JERA 37469) to be effective 10/1/2018.

Filed Date: 9/28/18.

Accession Number: 20180928-5113.

Comments Due: 5 p.m. ET 10/10/18.

Docket Numbers: RP18-1253-000.

Applicants: Dominion Energy Carolina Gas Transmission.

Description: § 4(d) Rate Filing: DECG—2018 FRQ and TDA Report to be effective 11/1/2018.

Filed Date: 9/28/18.

Accession Number: 20180928-5137.

Comments Due: 5 p.m. ET 10/10/18.

Docket Numbers: RP18-1254-000.

Applicants: Columbia Gulf Transmission, LLC.

Description: § 4(d) Rate Filing: Marubeni Amendment—Cameron Access to be effective 9/29/2018.

Filed Date: 9/28/18.

Accession Number: 20180928-5166.

Comments Due: 5 p.m. ET 10/10/18.

Docket Numbers: RP18-1255-000.

Applicants: Rockies Express Pipeline LLC.

Description: § 4(d) Rate Filing: Neg Rate 2018-09-28 E2W (6) to be effective 10/1/2018.

Filed Date: 9/28/18.

Accession Number: 20180928-5168.

Comments Due: 5 p.m. ET 10/10/18.

Docket Numbers: RP18-1256-000.

Applicants: El Paso Natural Gas Company, L.L.C.

Description: § 4(d) Rate Filing: No Fuel Segment Update Filing to be effective 11/1/2018.

Filed Date: 9/28/18.

Accession Number: 20180928-5186.

Comments Due: 5 p.m. ET 10/10/18.

Docket Numbers: RP18-1257-000.

Applicants: National Fuel Gas Supply Corporation.

Description: § 4(d) Rate Filing: GT&C Section 42 Tracker Filing 2018 to be effective 11/1/2018.

Filed Date: 9/28/18.

Accession Number: 20180928-5192.

Comments Due: 5 p.m. ET 10/10/18.

Docket Numbers: RP18-1258-000.

Applicants: Kinder Morgan Louisiana Pipeline LLC.

Description: § 4(d) Rate Filing: Tariff Filing to be effective 10/29/2018.

Filed Date: 9/28/18.

Accession Number: 20180928-5227.

Comments Due: 5 p.m. ET 10/10/18.

Docket Numbers: RP18-1259-000.

Applicants: Northern Natural Gas Company.

Description: § 4(d) Rate Filing: 20180928 Negotiated Rate Filing to be effective 10/1/2018.

Filed Date: 9/28/18.

Accession Number: 20180928-5241.

Comments Due: 5 p.m. ET 10/10/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2018.
Nathaniel J. Davis, Sr.,
Deputy Secretary.

[FR Doc. 2018-21745 Filed 10-4-18; 8:45 am]

BILLING CODE 6717-01-P